DEPARTMENT OF HEALTH AND HUMAN SERVICES

Indian Health Service

Request for Public Comment: 30-Day Proposed Information Collection: Indian Health Service Director's Three Initiative Best Practice, Promising Practice, and Local Effort Form

AGENCY: Indian Health Service, HHS.

ACTION: Notice.

SUMMARY: In compliance with Section 3506(c)(2)(A) of the Paperwork Reduction Act of 1995 which requires 30 days for public comment on proposed information collection projects, the Indian Health Service (IHS) is publishing for comment a summary of a proposed information collection to be submitted to the Office of Management and Budget (0MB) for review.

Proposed Collection: Title: 0917-NEW, “Indian Health Service Director's Three Initiative Best Practice, Promising Practice, and Local Effort Form.” Type of Information Collection Request: Three year approval of this new information collection, 0917-NEW, “Indian Health Service Director's Three initiative Best Practice, Promising Practice, and Local Effort (BPPPLE) Form.” Form(s): The Indian Health Service BPPPLE form. Need and Use of Information Collection: The Indian Health Service (IHS) goal is to raise the health status of the American Indian and Alaska Native (AI/AN) people to the highest possible level by providing comprehensive health care and preventive health services. To support the IHS mission, the Director's Three Initiative was launched which is comprised of Health Promotion and Disease Prevention (HP/DP), Behavioral Health (BH) and Chronic Care (CC). The Director's Three Initiative is linked together in their aim to reduce health disparities and improve the health and wellness among the AI/AN populations through a coordinated and systematic approach to enhance health promotion, and chronic disease and mental health prevention methods at the local, regional, and national levels.

To provide the product/service to IHS, Tribal, and Urban (I/T/U) programs, the Director's Three Initiative works together to develop a centralized program database of Best/Promising Practices (BPP). The purpose of this collection is to develop a database of BPP to be published on the IHS.gov website which will be a resource for program evaluation and for modeling examples of HP/DP, BH, and CC projects occurring in AI/AN communities.

This is a request that OMB approve, under the Paperwork Reduction Act, an IHS information collection initiative to promote submission of “Best and Promising Practices and Local Efforts” among the I/T/U.

All information submitted is on a voluntary basis; no legal requirement exists for collection of this information.

The information collected will enable the Director's Three Initiative program to: (a) Identify evidence based approaches to prevention programs among the I/T/U when no system is currently in place; and (b) Allow the program managers to review BPPPLE occurring among the I/T/U when considering program planning for their community.

Affected Public: Individuals. Type of Respondents: I/T/U organizations program staff.

The table below provides: Types of data collection instruments, Number of respondents, Responses per respondent, Average burden hour per response, and Total annual burden hour(s).

Estimated Burden Hours
Data collection instrument(s) | Number of respondents | Responses per respondent | Average burden hour per response | Total annual burden hours
IHS Service Unit, Tribal, and Urban Indian Center Administrators | 100 | 1 | 20/60 | 33.3
Total | 100 |  |  | 33.3

There are no Capital Costs, Operating Costs, and/or Maintenance Costs to report.

Request for Comments: Your written comments and/or suggestions are invited on one or more of the following points: (a) Whether the information collection activity is necessary to carry out an agency function; (b) whether the agency processes the information collected in a useful and timely fashion; (c) the accuracy of the public burden estimate (the estimated amount of time needed for individual respondents to provide the requested information); (d) whether the methodology and assumptions used to determine the estimates are logical; (e) ways to enhance the quality, utility, and clarity of the information being collected; and (f) ways to minimize the public burden through the use of automated, electronic, mechanical, or other technological collection techniques or other forms of information technology.

Send Comments and Requests for Further Information: Send your written comments, requests for more information on the proposed collection, or requests to obtain a copy of the data collection instrument(s) and instructions to: Ms. Betty Gould, Regulations Officer, 801 Thompson Avenue, TMP, Suite 450, Rockville, MD 20852-1627; call non-toll free (301) 443-7899; send via facsimile to (301) 443-9879; or send your e-mail requests, comments, and return address to: betty.gould@ihs.gov.

Comment Due Date: Your comments regarding this information collection are best assured of having full effect if received within 30 days of the date of this publication.

Dated: April 27, 2009.
Robert G McSwain,
Director, Indian Health Service.

[FR Doc. E9-10048 Filed 5-1-09; 8:45 am]

BILLING CODE 4165-16-M